DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than July 5, 2002.

Interest persons are invited to submit written comments regarding the subject matter of the investigations to the Director, Division of Trade Adjustment Assistance, at the address shown below, not later than July 5, 2002.

The petitions filed in this case are available for inspection at the Office of the Director, Division of Trade Adjustment Assistance, Employment and Training Administration, U.S. Department of Labor, Room C-5311, 200 Constitution Avenue, NW., Washington, DC 20210.

Signed at Washington, DC this 3rd day of June, 2002.
Edward A. Tomchick,
Director, Division of Trade Adjustment Assistance.

Appendix
[Petitions instituted on 06/03/2002]
TA-W | Subject firm (petitioners) | Location | Date of petition | Product(s)
41,601 | Dimon, Inc (Comp) | Danville, VA | 05/23/2002 | Leaf Tobacco.
41,602 | Diversified Tool Corp. (Comp) | Cambridge Spgs, PA | 05/13/2002 | Plastic Injection Molds.
41,603 | Tredegar Film Products (Comp) | Tacoma, WA | 05/03/2002 | Permeable Film.
41,604 | Benchmark Electronics (Wrks) | Pulaski, TN | 05/09/2002 | Circuit Boards.
41,605 | Bemis Manufacturing Co (Wrks) | Sheboygan Falls, WI | 04/16/2002 | Cutting Boards.
41,606 | Whatman, Inc. (Comp) | Ann Arbor, MI | 05/20/2002 | Medical Filtration Devices.
41,607 | John Deere Commercial (Wrks) | New London, TN | 05/06/2002 | Upper & Lower Links, Buckets Toothbars.
41,608 | G and L Trucking, Inc (Wrks) | Hanceville, AL | 05/03/2002 | Coal.
41,609 | Nokia Mobile Phones (Wrks) | Fort Worth, TX | 05/16/2002 | Cellular Phones.
41,610 | Simmons Juvenile Prod. Co (Wrks) | New London, WI | 05/16/2002 | Infant Furniture.
41,611 | Dean Pickle and Specialty (IBT) | Atkins, AR | 05/09/2002 | Vegetables.
41,612 | J.R. Simplot Co (BCTW) | Heyburn, ID | 05/09/2002 | Potatoes.
41,613 | Nordic Gear (Wrks) | Millersburg, PA | 05/09/2002 | Sewn Fleece.
41,614 | Great Northern Paper (Wrks) | Millinocket, ME | 05/17/2002 | High Gloss Paper.
41,615 | Aarons Automotive (Wrks) | Joplin, MO | 05/20/2002 | Transmissions.

[FR Doc. 02-15846 Filed 6-21-02; 8:45 am]

BILLING CODE 4510-38-M